ENVIRONMENTAL PROTECTION AGENCY

[EPA-HQ-OPP-2009-1017; FRL-8807-6]

Notice of Receipt of Requests to Voluntarily Cancel Certain Pesticide Registrations

AGENCY: Environmental Protection Agency (EPA).

ACTION: Notice.

SUMMARY: In accordance with section 6(f)(1) of the Federal Insecticide, Fungicide, and Rodenticide Act (FIFRA), as amended, EPA is issuing a notice of receipt of request by registrants to voluntarily cancel certain pesticide registrations.

DATES: Unless a request is withdrawn by March 5, 2010 for these registrations, which the registrant has requested a waiver of the 180-day comment period, orders will be issued canceling these registrations. The Agency will consider withdrawal requests postmarked no later than March 5, 2010. Comments must be received on or before March 5, 2010.

ADDRESSES: Submit your comments and your withdrawal request, identified by docket identification (ID) number EPA-HQ-OPP-2009-1017, by one of the following methods:

• Federal eRulemaking Portal: http://www.regulations.gov. Follow the on-line instructions for submitting comments.

• Mail: Office of Pesticide Programs (OPP) Regulatory Public Docket (7502P), Environmental Protection Agency, 1200 Pennsylvania Ave., NW., Washington, DC 20460-0001. : Written Withdrawal Request, Attention : Maia Tatinclaux, Pesticide Re-evaluation Division (7508P).

• Delivery: OPP Regulatory Public Docket (7502P), Environmental Protection Agency, Rm. S-4400, One Potomac Yard (South Bldg.), 2777 S. Crystal Dr., Arlington, VA. Deliveries are only accepted during the Docket Facility's normal hours of operation (8:30 a.m. to 4 p.m., Monday through Friday, excluding legal holidays). Special arrangements should be made for deliveries of boxed information. The Docket Facility telephone number is (703) 305-5805.

Instructions: Direct your comments to docket ID number EPA-HQ-OPP-2009-1017. EPA's policy is that all comments received will be included in the docket without change and may be made available on-line at http://www.regulations.gov, including any personal information provided, unless the comment includes information claimed to be Confidential Business Information (CBI) or other information whose disclosure is restricted by statute. Do not submit information that you consider to be CBI or otherwise protected through regulations.gov or e-mail. The regulations.gov website is an “anonymous access” system, which means EPA will not know your identity or contact information unless you provide it in the body of your comment. If you send an e-mail comment directly to EPA without going through regulations.gov, your e-mail address will be automatically captured and included as part of the comment that is placed in the docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the docket index available at http://www.regulations.gov. Although listed in the index, some information is not publicly available, e.g., CBI or other information whose disclosure is restricted by statute. Certain other material, such as copyrighted material, is not placed on the Internet and will be publicly available only in hard copy form. Publicly available docket materials are available either in the electronic docket at http://www.regulations.gov, or, if only available in hard copy, at the OPP Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

FOR FURTHER INFORMATION CONTACT: Maia Tatinclaux, (RMIB5, Office of Pesticide Programs, Environmental Protection Agency, 1200 Pennsylvania Ave., NW., Washington, DC 20460-0001; telephone number: (703) 347-0123; e-mail address: tatinclaux.maia@epa.gov.

SUPPLEMENTARY INFORMATION:

I. General Information

A. Does this Action Apply to Me?

This action is directed to the public in general. Although this action may be of particular interest to persons who produce or use pesticides, the Agency has not attempted to describe all the specific entities that may be affected by this action. If you have any questions regarding the information in this notice, consult the person listed under FOR FURTHER INFORMATION CONTACT.

B. What Should I Consider as I Prepare My Comments for EPA?

1. Submitting CBI. Do not submit this information to EPA through regulations.gov or e-mail. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket ID number and other identifying information (subject heading, Federal Register date and page number).

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns and suggest alternatives.

vii. Explain your views as clearly as possible, avoiding the use of profanity or personal threats.

viii. Make sure to submit your comments by the comment period deadline identified.

II. What Action is the Agency Taking?

This notice announces receipt by the Agency of applications from registrants to cancel 673 pesticide products registered under section 3 or 24(c) of FIFRA. These registrations are listed in sequence by registration number (or company number and 24(c) number) in Table 1 of this unit:

Table 1.—Registrations with Pending Requests for Cancellation
Registration No. | Product Name | Chemical Name
000004-00370 | Bonide Carpet Dust | Piperonyl Butoxide Pyrethrins
000004-00373 | Flying & Crawling Insect Killer | Resmethrin Piperonyl Butoxide Pyrethrins
000004-00418 | Pressurized Spray Insecticide 0.25% | Resmethrin
000070-00152 | Kill-Ko Fly & Mosquito Insect Killer | Piperonyl Butoxide Pyrethrins MGK 264
000070-00202 | Kill-Ko Premise Spray | Piperonyl Butoxide Pyrethrins
000070-00276 | Rigo's Aqueous Garden Spray | Piperonyl Butoxide Pyrethrins
000070-00281 | Rigo's General Purpose Aqueous Insecticide | Piperonyl Butoxide Pyrethrins
000070-00297 | Rigo's Best Flea & Tick Spray | Permethrin Pyrethrin
000070-00298 | Rigo's Best Tick & Flea Dip | Piperonyl Butoxide Pyrethrins MGK 264
000070-00299 | Rigos Best Flea & Tick Dip | Permethrin MGK 264
000088-00024 | Hyponex Bug Spray for House Plants | Pyrethrins Piperonyl Butoxide
000192-00096 | Dexol Malathion Insect Control | Malathion
000192-00144 | Dexol Vegetable Garden Insect Spray | Piperonyl Butoxide Pyrethrins
000192-00170 | Dexol Carpet Dust | Piperonyl Butoxide Pyrethrins
000192-00181 | Dexol House Insect Control Mother Nature's Brand | Piperonyl Butoxide Pyrethrins
000192-00185 | Dexol Indoor Insect Fogger II | Pyrethrins MGK 264 Permethrin
000192-00186 | Dexol Ant, Roach, & Spider Spray | Pyrethrins MGK 264 Permethrin
000192-00197 | Dexol Flea Free Fogger | Pyrethrins MGK 264 Permethrin Pyriproxyfen
000192-00203 | Dexol Hornet & Wasp Killer 3 | Piperonyl Butoxide Permethrin
000239-02429 | Ortho High Power Indoor Insect Fogger | Pyrethrins Piperonyl Butoxide MGK 264
000239-02476 | Ortho Systemic Rose and Floral Spray | Resmethrin
000239-02498 | Ortho Rose & Flower Insect Killer | Pyrethrins Piperonyl Butoxide
000239-02527 | Ortho Pet Flea & Tick Spray | Pyrethrins Piperonyl Butoxide
000239-02536 | Ortho Pet Flea & Tick Spray Formula II | Pyrethrins Piperonyl Butoxide
000239-02565 | Ortho Pet Shampoo | Pyrethrins Piperonyl Butoxide
000239-02566 | Ortho Pet Flea & Tick Powder | Pyrethrins Piperonyl Butoxide
000239-02567 | Flea-B-Gon Carpet Dust | Pyrethrins Piperonyl Butoxide
000239-02624 | Hi-Power Indoor Insect Fogger Formula V | Pyrethrins Piperonyl Butoxide MGK 264 Esfenvalerate
000239-02676 | Flea-B-Gon Total Fogger | Pyrethrins MGK 264 Permethrins Pyriproxyfen
000239-02678 | Ortho Ant Killer Spray | Pyrethrins MGK 264 Permethrins
000270-00030 | Farnam Repel X Fly Spray Concentrate | Piperonyl Butoxide Pyrethrins
000270-00110 | Farnam Super Swat Fly Repellent | Piperonyl Butoxide Pyrethrins MGK 264
000270-00168 | Farnam Mite-X | Piperonyl Butoxide Pyrethrins
000270-00172 | Farnam Water Base Fly Repel | Piperonyl Butoxide Pyrethrins
000270-00265 | Purina Animal Shampoo | Piperonyl Butoxide Pyrethrins
000270-00274 | TPC Equi-Spray “N” Wipe | Piperonyl Butoxide Pyrethrins
000270-00275 | Equi-Dust | Piperonyl Butoxide Pyrethrins
000270-00297 | Farnam IGR Fogger 301 | Pyrethrins MGK 264 Permethrins Pyriproxyfen
000270-00330 | Farnam B736 Insecticide | Piperonyl Butoxide Permethrin
000270-00332 | Sulfodene Scratchex Flea & Tick Shampoo for Dogs & Cats | Piperonyl Butoxide Pyrethrins MGK 264
000270-00333 | Sulfodene Scratchex Flea & Tick Shampoo II | Piperonyl Butoxide Pyrethrins MGK 264
000270-00334 | Sulfodene Scratchex Power Dip | Piperonyl Butoxide Pyrethrins MGK 264
000270-00335 | Sulfodene Scratchex Flea & Tick Spray for Dogs & Cats | Pyrethrins Permethrin
000270-00336 | Sulfodene Scratchex Flea & Tick Killer for Dogs & Cats | Pyrethrins Permethrin
000270-00337 | Sulfodene Scratchex Flea & Tick Shampoo-B for Dogs & Cats | Piperonyl Butoxide MGK 264
000270-00338 | Sulfodene Scratchex Formula 36 Power Dip | Piperonyl Butoxide MGK 264
000270-00340 | Adams Flea & Tick Mist II | Piperonyl Butoxide Pyrethrins MGK 264
000270-00341 | Adams Flea & Tick Shampoo | Piperonyl Butoxide Pyrethrins MGK 264
000270-00355 | Mycodex Premise Control Room Fogger | Pyrethrins MGK 264 Permethrins Pyriproxyfen
000270-00357 | Redline Flea & Tick Mist | Piperonyl Butoxide Pyrethrins MGK 264
000270-00358 | Adams Flea & Tick Mist with Nylar | Piperonyl Butoxide Pyrethrins MGK 264
000270-00359 | Mycodex Fastact WP Flea & Tick Spray with Nylar Mycodex All-In-One | Piperonyl Butoxide Pyrethrins MGK 264
000270-00360 | Mycodex Pet Shampoo with Pyrethrins | Piperonyl Butoxide Pyrethrins
000270-00362 | Mycodex Pet Shampoo with Allethrin | Piperonyl Butoxide
000270-00363 | Mycodex Aqua-Spray with Pyrethrins | Piperonyl Butoxide Pyrethrins
000270-00364 | Adams Gold Flea & Tick Shampoo | Piperonyl Butoxide Pyrethrins
000270-00366 | Mycodex “14” Pet Spray | Piperonyl Butoxide Pyrethrins Permethrin
000305-00060 | Repel Permanone RTU | Permethrin
000432-00611 | 3-6-10 Fogging Concentrate | Piperonyl Butoxide Pyrethrins MGK 264
000432-00685 | Ultratec Insecticide W/PYR./ Piperonyl Butoxide TRANS. E.D.C. 2.25+22.5% | Piperonyl Butoxide Pyrethrins
000432-00688 | Pyrethrins/Piperonyl Butoxide Transparent Emulsion Spray 0.1%+1.0% | Piperonyl Butoxide Pyrethrins
000432-00719 | Scourge Insecticide with SPB-1382/ Piperonyl Butoxide 1.5 + 4.5% Formula II | Piperonyl Butoxide Resmethrin
000432-00769 | Alleviate Plus Insecticide | Piperonyl Butoxide Pyrethrins
000432-00880 | Pyrenone Mushroom Fogging Insecticide | Piperonyl Butoxide Pyrethrins
000432-00884 | DP210 Professional Insecticide | Pyrethrins Deltamethrin
000432-00986 | Mosquito Spray Concentrate | Piperonyl Butoxide Pyrethrins
000432-01023 | Mosquito Fogging Spray | Piperonyl Butoxide Pyrethrins
000432-01029 | Pyrenone 1-0.2 Food Plant Spray | Piperonyl Butoxide Pyrethrins
000432-01051 | Aqueous Food Plant Pyrenone Fogging Insecticide | Piperonyl Butoxide Pyrethrins
000432-01056 | Pyrenone Stabilene Horse Insecticide Concentrate | Piperonyl Butoxide Pyrethrins
000432-01057 | Pyrenone Food Plant Fogging Insecticide | Piperonyl Butoxide Pyrethrins
000432-01060 | Pyrenone 7.5-0.75 Stabilene 53% E.C. | Piperonyl Butoxide Pyrethrins
000432-01068 | M.A.G. 3-6-10 | Piperonyl Butoxide Pyrethrins MGK 264
000432-01072 | Pyrenone M.A.G.C. 5-1 | Piperonyl Butoxide Pyrethrins
000432-01073 | Pyrenone M.A.G.C. 12.5-2.5 | Piperonyl Butoxide Pyrethrins
000432-01074 | Pyrenone MAGC 10-3.34 | Piperonyl Butoxide Pyrethrins
000432-01081 | Alleviate Industrial Spray E.C. | Piperonyl Butoxide
000432-01085 | Alleviate Stabilene Horse Insecticide | Piperonyl Butoxide
000432-01091 | Pyrenone Multi-Purpose Aqueous 30-3 | Piperonyl Butoxide Pyrethrins
000432-01092 | Pyrenone Aqueous 30-3 | Piperonyl Butoxide Pyrethrins
000432-01099 | Turf Pest Diagnostic Aid | Piperonyl Butoxide Pyrethrins
000432-01100 | PY-SY Concentrate | Pyrethrins Resmethrin
000432-01121 | Pyrenone Aqueous Space Spray | Piperonyl Butoxide Pyrethrins
000432-01140 | Synthrin Plus Pyrenone 415 M.A.G.C. | Piperonyl Butoxide Pyrethrins Resmethrin
000432-01144 | Pyrenone 25-2.5 W.P. | Piperonyl Butoxide Pyrethrins
000432-01154 | Butacide PS E.C. | Piperonyl Butoxide
000432-01167 | Turbocide Pest Control System with Synthrin Butacide | Piperonyl Butoxide Resmethrin
000432-01233 | Skeeter-Mite 150-750 ULV | Piperonyl Butoxide Permethrin
000432-01234 | Skeeter-Mite 300-1500 ULV | Piperonyl Butoxide Permethrin
000432-01236 | Omen 50-50 | Piperonyl Butoxide Permethrin
000432-01249 | PyrenoneE 32-4 | Piperonyl Butoxide Pyrethrins
000432-01319 | Laser Flying Insect Killer | Piperonyl Butoxide MGK 264
000432-01320 | Laser Ant & Roach Killer | Piperonyl Butoxide Pyrethrins
000432-01321 | Laser House & Garden Insect Killer | Piperonyl Butoxide MGK 264
000432-01322 | Laser Room Fogger | Piperonyl Butoxide Pyrethrins MGK 264
000432-01324 | Laser Liquid Ant & Roach Killer Pump Spray | Piperonyl Butoxide Pyrethrins
000478-00045 | Rose & Garden Insect Spray Concentrate | Pyrethrins Piperonyl Butoxide
000478-00046 | Real Kill Rose & Garden Insect Spray | Pyrethrins Piperonyl Butoxide
000498-00135 | Chase-MM Flea Killer | Piperonyl Butoxide Pyrethrins
000498-00150 | Spraypack Flying & Crawling Insect Killer | Pyrethrins MGK 264 Permethrin
000498-00161 | Spraypak Indoor Insect Fogger Formula 4 | Piperonyl Butoxide Pyrethrins Permethrin
000498-00162 | Spraypak Indoor Insect Fogger Formula 5 | Piperonyl Butoxide Pyrethrins Permethrin
000498-00163 | Spraypak Indoor Insect Fogger Formula 6 | Piperonyl Butoxide Permethrin
000498-00171 | Spraypack Flying & Crawling Insect Killer, Formula 3 | Pyrethrins MGK 264 Permethrin
000498-00172 | Spraypack Indoor Insect Fogger with Insect Growth Regulator | Pyrethrins MGK 264 Permethrins Pyriproxyfen
000498-00173 | Spraypak Crawling Insect Killer Formula 3 | Piperonyl Butoxide Pyrethrins Permethrin
000498-00185 | Champion Sprayon Wasp Hornet Killer Formula 2 | Piperonyl Butoxide Permethrin
000498-00189 | Kill Zone Flea & Tick Killer 2000 | Piperonyl Butoxide Pyrethrins Permethrin
000499-00231 | Whitmire Flea Foam PT-11 | Piperonyl Butoxide Pyrethrins MGK 264
000499-00233 | Whitmire PT 170 X-CLUDE | Piperonyl Butoxide Pyrethrins MGK 264
000499-00235 | Whitmire PT 170A X-CLUDE | Piperonyl Butoxide Pyrethrins MGK 264
000499-00238 | Whitmire PT 12A X-CLUDE | Piperonyl Butoxide Pyrethrins MGK 264
000499-00265 | Whitmire X-CLUDE Manufacturing Use Concentrate | Piperonyl Butoxide Pyrethrins MGK 264
000499-00325 | Whitmire Flys-Off II Permethrin | Permethrin
000499-00331 | Whitmire PT 21 H Dairy and Farm Insect Fogger | Piperonyl Butoxide Permethrin
000499-00378 | Whitmire PT 150 XLO Pyrethrum Contact Insecticide | Piperonyl Butoxide Pyrethrins
000499-00411 | Whitmire AERO-CIDE PT 3-6-10 XLO Pyrethrum Contact Insecticide | Piperonyl Butoxide Pyrethrins MGK 264
000499-00427 | Whitmire PT 3-6-10C Aerocide Pyrethrin Concentrate | Piperonyl Butoxide Pyrethrins MGK 264
000499-00446 | Whitmire TC 152 | Permethrin
000499-00483 | TC 179 | Piperonyl Butoxide Permethrin
000499-00490 | Prescription Treatment Brand TC ES Contact Insecticide | Piperonyl Butoxide Pyrethrins MGK 264
000499-00494 | TC 230 | Piperonyl Butoxide Pyrethrins MGK 264
000499-00499 | Whitmire MICRO-GEN TC-236 | Piperonyl Butoxide Pyrethrins MGK 264
000506-00166 | TAT Roach & Ant Kille | Permethrin Pyrethrins MGK-264
000572-00278 | Rockland Super Kill Insecticide Spray | Piperonyl Butoxide Pyrethrins
000655-00029 | Prentox Pyronyl Roach Spray Concentrate | Piperonyl Butoxide Pyrethrins
000655-00030 | Prentox Pyronyl 20 Concentrate | Piperonyl Butoxide Pyrethrins
000655-00043 | Prentox Pyronyl 101 Emulsion Concentrate | Piperonyl Butoxide Pyrethrins
000655-00061 | Prentox Pyronyl 20-8 Oil Concentrate | Piperonyl Butoxide Pyrethrins
000655-00062 | Prentox Pyronyl 40-5 Oil Concentrate | Piperonyl Butoxide Pyrethrins
000655-00073 | Prentox Pyronyl 66-6 Oil Concentrate | Piperonyl Butoxide Pyrethrins
000655-00112 | Prentox Pyronyl KD Concentrate | Piperonyl Butoxide Pyrethrins
000655-00120 | Prentox Pyronyl Oil Concentrate NO. 101 | Piperonyl Butoxide Pyrethrins
000655-00152 | Prentox Pyronyl 30-6 Oil Concentrate | Piperonyl Butoxide Pyrethrins
000655-00217 | Prentox Pyronyl 50-10 Oil Concentrate | Piperonyl Butoxide Pyrethrins
000655-00310 | Prentox Malathion 95% Technical Premium | Malathion
000655-00332 | Prentox Pyronyl 50-5 Aerosol Concentrate | Piperonyl Butoxide Pyrethrins
000655-00406 | Prentox Pyronyl 5-18-10 WBA Concentrate | Piperonyl Butoxide MGK 264
000655-00421 | Prentox Synpren-Fish Toxicant | Piperonyl Butoxide
000655-00450 | Prentox Pyronyl Oil Concentrate #3610 | Piperonyl Butoxide MGK 264
000655-00492 | Prentox Vapon 20% Emulsifiable Concentrate | Dichlorvos (DDVP)
000655-00509 | Prentox Insect Spray “A” | Piperonyl Butoxide MGK 264
000655-00511 | Prentox Fogging Concentrate #1 | Piperonyl Butoxide MGK 264
000655-00513 | Prentox Insect Spray “B” | Piperonyl Butoxide MGK 264
000655-00549 | Prentox Malathion W-25 | Malathion
000655-00551 | Prentox 5% Malathion Dust | Malathion
000655-00582 | Prentox Pyronyl Fly Spray | Piperonyl Butoxide Pyrethrins
000655-00598 | Prentox Malathion 50% Emulsifiable Insecticide | Malathion
000655-00604 | Prentox Mosquito Fogging Concentrate F-103 | Piperonyl Butoxide Pyrethrins
000655-00609 | Prentox Grain Protectant Dust NO. 101 | Piperonyl Butoxide Pyrethrins
000655-00612 | Prentox Insect Fogging Spray Concentrate F-102 | Piperonyl Butoxide Pyrethrins
000655-00621 | Prentox Home & Garden Bug Killer | Piperonyl Butoxide MGK 264
000655-00664 | Prentox Pyronyl Oil Concentrate # 12294 | Piperonyl Butoxide MGK 264
000655-00666 | Prentox TFL Killer | Piperonyl Butoxide Pyrethrins
000655-00675 | Prentox Pyronyl Fogging & Contact Spray | Piperonyl Butoxide MGK 264
000655-00683 | Prentox Pyronyl Oil Concentrate #15A | Piperonyl Butoxide Pyrethrins
000655-00684 | Prentox Pyronyl Oil Concentrate #15 | Piperonyl Butoxide Pyrethrins
000655-00692 | Prentox Vapon 4E | Dichlorvos (DDVP)
000655-00694 | Prentox Pyronyl Livestock & Dairy Spray | Piperonyl Butoxide Pyrethrins
000655-00702 | Prentox Fogger Oil and Dairy Spray | Dichlorvos (DDVP)
000655-00734 | Prentox Pyronyl Equine Insect Repellent Concentrate | Piperonyl Butoxide Pyrethrins
000655-00772 | Prentox Pyronyl Insect Spray and Fogging Concentrate #2 | Piperonyl Butoxide MGK 264
000655-00775 | Prentox Pyronyl Spray Concentrate 0.62% | Piperonyl Butoxide Pyrethrins
000655-00785 | Prentox Pyronyl Oil Concentrate 125-25 | Piperonyl Butoxide Pyrethrins
000655-00800 | Prentox Flea, Tick and Roach Control | Piperonyl Butoxide Pyrethrins
000655-00804 | Nusyn - Noxfish Fish Toxicant | Piperonyl Butoxide
000655-00810 | Prentox Pyronyl Mosquito Adulticide #6012 | Piperonyl Butoxide Pyrethrins
000769-00221 | Suregard Grain Protectant Dust (1%) | Malathion
000769-00572 | Malathion Spray | Malathion
000769-00585 | R & M Floral & Vegetable Spray #1 | Piperonyl Butoxide Pyrethrins
000769-00596 | Sureco Flea & Tick Shampoo #4 | Piperonyl Butoxide Pyrethrins
000769-00597 | R & M Flea & Tick Shampoo #5 | Piperonyl Butoxide Pyrethrins
000769-00600 | R & M Carpet Powder #1 | Piperonyl Butoxide Pyrethrins
000769-00601 | R & M Carpet Powder #2 | Piperonyl Butoxide Pyrethrins
000769-00602 | R & M Carpet Powder #3 | Piperonyl Butoxide Pyrethrins
000769-00608 | R & M Aqueous Flea & Tick Spray #3 | Piperonyl Butoxide Pyrethrins
000769-00610 | R & M Pyrethrin Powder | Piperonyl Butoxide Pyrethrins
000769-00616 | Sureco Flea & Tick Spray #7 | Pyrethrins Piperonyl Butoxide MGK 264
000769-00620 | SMCP Malathion 57% Premium Grade | Malathion
000769-00621 | SMCP Malathion EM-5 | Malathion
000769-00623 | Special Outdoor Fly Kil Insect Killer | Pyrethrins Piperonyl Butoxide
000769-00649 | SMCP Emulsifiable 10-1 Pyrenone Concentrate | Pyrethrins Piperonyl Butoxide
000769-00650 | SMCP Warehouse Fog Insecticide | Pyrethrins Piperonyl Butoxide
000769-00654 | SMCP Roach Spray Concentrate | Pyrethrins Piperonyl Butoxide
000769-00700 | SMCP Malathion ULV Concentrate | Malathion
000769-00733 | SMCP General Purpose Spray #31 | Pyrethrins Piperonyl Butoxide
000769-00734 | SMCP Pyrenone General Purpose Spray | Pyrethrins Piperonyl Butoxide
000769-00736 | SMCP Malathion Mole Cricket Bait Insecticide | Malathion
000769-00742 | A. F. C. Pyrethrum Extract 1% | Pyrethrins
000769-00748 | AFC Pyrethrum Concentrate #10 | Pyrethrins
000769-00753 | P.C.E. Fog Oil | Pyrethrins Piperonyl Butoxide MGK 264
000769-00757 | AFC Pyrethrum Powder 0.9% | Pyrethrins
000769-00760 | AFC General Purpose Spray | Pyrethrins Piperonyl Butoxide MGK 264
000769-00764 | AFC General Purpose Spray Type II | Pyrethrins Piperonyl Butoxide MGK 264
000769-00765 | SMCP AFC General Purpose Spray Type 4 | Pyrethrins Piperonyl Butoxide MGK 264
000769-00770 | SMCP PCE Space Spray | Pyrethrins Piperonyl Butoxide MGK 264
000769-00772 | P. C. E. Water Miscible 110 | Pyrethrins Piperonyl Butoxide MGK 264
000769-00773 | PCE Pyrethrum Space Spray | Pyrethrins Piperonyl Butoxide
000769-00774 | Formulation 16 | Pyrethrins Piperonyl Butoxide MGK 264
000769-00775 | PCE Water Miscible 110 | Pyrethrins Piperonyl Butoxide MGK 264
000769-00776 | General Purpose Spray Type 5 | Pyrethrins Piperonyl Butoxide MGK 264
000769-00777 | P.C.E. Multi-Purpose Concentrate | Pyrethrins Piperonyl Butoxide MGK 264
000769-00779 | AFC D-Trans 5 | Piperonyl Butoxide MGK 264
000769-00780 | AFC Esbiol 35 | Piperonyl Butoxide MGK 264
000769-00790 | Omnicide Municipal Special | Pyrethrins Piperonyl Butoxide MGK 264
000769-00810 | Pyrethrum 25-5 ULV Insecticide | Pyrethrins Piperonyl Butoxide
000769-00811 | Superior Omnicide Special Kill | Pyrethrins Piperonyl Butoxide MGK 264
000769-00818 | Superior Food Plant Spray | Pyrethrins Piperonyl Butoxide
000769-00844 | Pratt's 50% Malathion Spray | Malathion
000769-00847 | Pratt's Home & Garden Insect Bomb | Pyrethrins Piperonyl Butoxide MGK 264
000769-00857 | Science Red Arrow Insect Spray Pratt Red Arrow Insect Spray | Pyrethrins Piperonyl ButoxideRotenone
000769-00867 | Pratt Room Fogger | Pyrethrins Piperonyl Butoxide MGK 264
000769-00887 | Pybutox Fruit Fly Dust | Pyrethrins Piperonyl Butoxide
000769-00900 | House and Yard Insect Spray | Pyrethrins Piperonyl Butoxide Resmethrin
000769-00932 | General Purpose Insecticide | Pyrethrins Piperonyl Butoxide
000769-00933 | Warner Enterprises Tomato & Vegetable Spray | Pyrethrins Piperonyl Butoxide
000769-00934 | Warner Enterprises Rose & Floral Spray | Pyrethrins Piperonyl Butoxide
000769-00937 | Warner House and Garden Spray | Pyrethrins Piperonyl Butoxide
000769-00941 | Rose & Flower Insect Spray | Pyrethrins Piperonyl Butoxide
000769-00957 | Pratt Malathion 25W | Malathion
000769-00961 | Agrisect Malathion 80 EC | Malathion
000769-00964 | Sureco Aqueous Flea & Tick Spray #4 | Pyrethrins Piperonyl Butoxide
000769-00966 | Sureco Synergized Permethrin Powder #1 | Piperonyl Butoxide Permethrin
000769-00967 | Sureco Synergized Permethrin Powder #2 | Piperonyl Butoxide Permethrin
000769-00968 | Sureco 6 Month Insect Powder | Pyrethrins Piperonyl Butoxide
000829-00061 | SA-50 Brand 5% Malathion Dust | Malathion
000829-00288 | SA-50 Turf Fungicide Granular | Triadimefon
000829-00289 | SA-50 Systemic Fungicide For Turf and Ornamentals | Triadimefon
001015-00016 | Douglas Special Mill Spray | Piperonyl Butoxide Pyrethrins
001021-001857 | MGK Formula 74407 | Pyrethrins Piperonyl Butoxide
001021-01857 | MGK Formula 74407 | Piperonyl Butoxide Pyrethrins
001203-00011 | Foremost 4809-ES Insect-O-Fog | Piperonyl Butoxide Pyrethrins
001270-00093 | Zeposector Insecticide Spray | Piperonyl Butoxide Pyrethrins MGK 264
001270-00222 | Zeposector A Spray Insecticide | Piperonyl Butoxide MGK 264
001270-00253 | ZEP Double Shot II | Piperonyl Butoxide Pyrethrins Permethrin
001381-00153 | Imperial 6% Malathion Grain Dust | Malathion
001381-00154 | 5LB Malathion Spray | Malathion
001903-00029 | 8-In-1 Flea & Tick Shampoo | Piperonyl Butoxide Pyrethrins
002596-00018 | Hartz 2-in-1 Dog Flea Soap | Piperonyl Butoxide Pyrethrins MGK 264
002596-00021 | Hartz 2-in-1 Luster Bath for Dogs | Piperonyl Butoxide Pyrethrins MGK 264
002596-00023 | Hartz 2-in-1 Luster Bath for Cats | Piperonyl Butoxide Pyrethrins MGK 264
002596-00093 | Hartz 2-in-1 Flea & Tick Killer for Cats - Fine Mist Spray | Piperonyl Butoxide Pyrethrins MGK 264
002596-00094 | Hartz 2-in-1 Flea & Tick Killer for Dogs with Pyrethrin | Piperonyl Butoxide Pyrethrins MGK 264
002596-00111 | Hartz One Spot Flea & Tick Killer for Cats & Dogs | Piperonyl Butoxide Pyrethrins MGK 264
002596-00138 | Hartz 2-in-1 Flea & Tick Killer for Carpets | Piperonyl Butoxide Pyrethrins
002724-00468 | Sandoz 9116 Mousse | Pyrethrins Piperonyl Butoxide
002724-00512 | Speer Professional Insect Killer | Pyrethrins Piperonyl Butoxide
002724-00513 | Speer Industrial Insecticide | Pyrethrins Piperonyl Butoxide
002724-00521 | Speer One Shot Hi Pressure Insecticide Fogger | Pyrethrins Piperonyl Butoxide MGK 264
002724-00522 | Speer Industrial Pressurized Spray | Pyrethrins Piperonyl Butoxide
002724-00523 | Speer Insecticide, Pyrethrum Space Spray Synergizer Pyrethrins | Pyrethrins Piperonyl Butoxide
002724-00539 | Speer Automatic Sequential Insecticide | Pyrethrins Piperonyl Butoxide
002724-00550 | Pet Guard Flea & Tick Spray for Dogs & Cats | Piperonyl Butoxide
002724-00551 | Speer Home & Institutional Insecticide Spray | Piperonyl Butoxide MGK 264
002724-00553 | Speer Household & Industrial Insect Killer | Piperonyl Butoxide MGK 264
002724-00554 | Magic Guard Home & Institutional Insect Spray | Piperonyl Butoxide MGK 264
002724-00556 | Magic Guard Automatic Fogger No. IV | Pyrethrins Piperonyl Butoxide MGK 264
002724-00557 | Magic Guard Automatic Fogger No. II (Double Strength Formula) | Pyrethrins Piperonyl Butoxide MGK 264
002724-00558 | Speer Dairy and Food Plant Insecticide | Pyrethrins Piperonyl Butoxide MGK 264
002724-00559 | Constant Companion Flea & Tick Spray for Dogs | Pyrethrins Piperonyl Butoxide MGK 264
002724-00560 | Serene Companion Flea & Tick Spray for Cats | Pyrethrins Piperonyl Butoxide MGK 264
002724-00561 | Pet Guard Pyrenone Flea & Tick Spray | Pyrethrins Piperonyl Butoxide
002724-00564 | Pet Guard Beauty Shampoo | Pyrethrins Piperonyl Butoxide MGK 264
002724-00565 | Better World Industrial Aerosol Insecticide | Pyrethrins Piperonyl Butoxide MGK 264
002724-00567 | Better World Tomato & Vegetable Insect Spray | Pyrethrins Piperonyl Butoxide
002724-00569 | Force One Insect Killer | Pyrethrins Piperonyl Butoxide MGK 264
002724-00570 | Constant Companion Flea & Tick Dip | Pyrethrins Piperonyl Butoxide MGK 264
002724-00571 | Speer Fly Repellent Spray | Pyrethrins Piperonyl Butoxide
002724-00572 | SPI Pyrenone Food Plant Insecticide | Pyrethrins Piperonyl Butoxide
002724-00574 | Speer Liquid Flea & Tick Killer with Deodorant | Pyrethrins Piperonyl Butoxide MGK 264
002724-00576 | Deputy Dog Flea & Tick Arrest | Pyrethrins Permethrin
002724-00583 | Speer Residual Pressurized Spray | Piperonyl Butoxide MGK 264
002724-00587 | SPI Residual Flea & Tick Spray for Dogs & Cats II | Pyrethrins Permethrin
002724-00588 | Speer Flea & Tick Powder for Carpets | Pyrethrins Piperonyl Butoxide
002724-00594 | Daltek Dermatological Quick Kill Flea & Tick Spray for Dogs & Cats | Pyrethrins Piperonyl Butoxide
002724-00595 | Farnam Dip-Quik Concentrate | Pyrethrins Piperonyl Butoxide
002724-00596 | Farnam Flea & Tick Non-Aerosol Spray | Pyrethrins Piperonyl Butoxide
002724-00598 | Farnam Flys Away Repellent Stick | Pyrethrins Piperonyl Butoxide
002724-00600 | Farnam Repel-X A Emulsifiable Fly Spray | Piperonyl Butoxide
002724-00601 | Farnam Automatic Insect Guard | Pyrethrins Piperonyl Butoxide
002724-00602 | Farnam Flea & Tick Shampoo | Pyrethrins Piperonyl Butoxide MGK 264
002724-00603 | Farnam Flea & Tick Shampoo II | Pyrethrins Piperonyl Butoxide
002724-00605 | Nature's Own Brand Herbal Flea & Tick Shampoo | Pyrethrins
002724-00606 | Organic Pyrethrin Liquid Concentrate Spray | Pyrethrins Piperonyl Butoxide
002724-00609 | Farnam Repel-X Plus | Piperonyl Butoxide
002724-00612 | Farnam Wipe a Fly Protectant | Piperonyl Butoxide
002724-00613 | Mug-a-bug Total Release Aerosol Fogger I | Pyrethrins Permethrin MGK 264
002724-00614 | Speer Repellent Towelette I | Pyrethrins Piperonyl Butoxide
002724-00618 | Holiday Pet Spray | Piperonyl Butoxide
002724-00619 | Speer Py-Perm Aqueous Insect Killer #2 | Pyrethrins Piperonyl Butoxide Permethrin
002724-00620 | Speer Py-Perm Aqueous Insect Killer #3 | Pyrethrins Piperonyl Butoxide Permethrin
002724-00621 | Speer Py-Perm Aqueous Insect Killer #4 | Pyrethrins Piperonyl Butoxide Permethrin
002724-00622 | Speer Py-Perm Aqueous Insect Killer #5 | Pyrethrins Piperonyl Butoxide Permethrin
002724-00623 | Speer Pyrethrin Spray 2000 | Pyrethrins Piperonyl Butoxide
002724-00624 | Elite Carpet Powder | Pyrethrins Piperonyl Butoxide
002724-00625 | 6 Month Insect Powder | Pyrethrins Piperonyl Butoxide
002724-00626 | Elite Carpet Powder II | Pyrethrins Piperonyl Butoxide
002724-00629 | Speer Point Five Pyrethin Spray | Pyrethrins Piperonyl Butoxide
002724-00647 | Speer-it Fogger II Total Release Aerosol | Pyrethrins Piperonyl Butoxide MGK 264
002724-00649 | Farnam-Wipe Plus Fly Protectant | Piperonyl Butoxide
002724-00650 | Farnam HMH-228 Fly Repellent Ointment | Piperonyl Butoxide
002724-00652 | Purina Flea 'N Tick Mist | Pyrethrins Permethrin
002724-00653 | TPC-RE-PEL | Pyrethrins Piperonyl Butoxide
002724-00656 | Speer Point Five Pyrethrin Total Release Indoor Fogger | Pyrethrins Piperonyl Butoxide
002724-00657 | Speer Cyfluthrin Multi-Purpose House & Garden Insect Killer | Piperonyl Butoxide MGK 264
002724-00658 | Speer Cyfluthrin Ant and Roach Killer | Pyrethrins Piperonyl Butoxide
002724-00659 | Speer Cyfluthrin Ant and Roach Killer Pump Spray | Pyrethrins Piperonyl Butoxide
002724-00660 | Speer Cyfluthrin Flying Insect Killer | Piperonyl Butoxide MGK 264
002724-00662 | Speer Total Release Aerosol II with Nylar | Pyrethrins Piperonyl Butoxide MGK 264
002724-00670 | Neoperm Industrial Insect Killer | Pyrethrins Piperonyl Butoxide Permethrin
002724-00671 | Speer Dry Insecticide | Pyrethrins Piperonyl Butoxide
002724-00672 | Speer Py-Perm Aqueous Insect Killer #2 Alternate Speer Permethrin Dusting Powder Active | Piperonyl Butoxide Permethrin
002724-00689 | Security Brand Vegetable & Ornamental Insect Spray | Pyrethrins Piperonyl Butoxide
002724-00695 | SBP/PY/PB Water-Based Ready-to-Use Liquid Spray | Pyrethrins Piperonyl Butoxide Resmethrin
002724-00708 | Elite Flea & Tick Spray #5 | Pyrethrins Piperonyl Butoxide
002724-00710 | Elite Horse Pray and Rub Concentrate | Pyrethrins Piperonyl Butoxide
002724-00711 | Elite Horse Spray & Rub | Pyrethrins Piperonyl Butoxide
002724-00712 | Elite Residual Flea & Tick Mist | Pyrethrins Permethrin
002724-00713 | Elite Flea & Tick Dip III | Pyrethrins Piperonyl Butoxide
002724-00716 | Elite Flea & Tick Shampoo III | Pyrethrins Piperonyl Butoxide
002724-00717 | Elite Flea & Tick Shampoo III | Pyrethrins Piperonyl Butoxide
002724-00718 | Elite Flea & Tick Shampoo III | Pyrethrins Piperonyl Butoxide
002724-00720 | Elite Horse Spray | Pyrethrins Piperonyl Butoxide
002724-00721 | Elite Residual Flea & Tick Mist II with Aloe & Lanolin | Pyrethrins Permethrin
002724-00723 | Elite Quick Kill Spray Concentrate II | Pyrethrins Piperonyl Butoxide
002724-00725 | Elite Horse Spray and Wipe | Pyrethrins Piperonyl Butoxide Permethrin
002724-00726 | Elite Residual Equine & Pet Spray II | Pyrethrins Piperonyl Butoxide Permethrin
002724-00727 | Elite Barn and Stable Spray II | Pyrethrins Piperonyl Butoxide
002724-00728 | Elite Flea & Tick Spray #10 | Pyrethrins Piperonyl Butoxide MGK 264
002724-00732 | Elite Flea & Tick Spray II | Pyrethrins Piperonyl Butoxide MGK 264
002724-00733 | Elite Flea & Tick Shampoo II | Pyrethrins Piperonyl Butoxide MGK 264
002724-00735 | RSR Allethrin Shampoo | Piperonyl Butoxide
002724-00736 | RSR Hamster & Gerbil Spray | PB Pyrethrins MGK 264
002724-00737 | RSR Mite and Lice Spray | Pyrethrins Piperonyl Butoxide
002724-00738 | Heartland Farm & Dairy Fly Spray | Pyrethrins Piperonyl Butoxide
002724-00739 | Heartland Auto-Mist 3 Insect Killer | Pyrethrins Piperonyl Butoxide MGK 264
002724-00740 | Heartland Auto-Mist 2 Insect Killer | Pyrethrins Piperonyl Butoxide MGK 264
002724-00741 | Heartland Farm & Dairy Insecticide | Pyrethrins Piperonyl Butoxide MGK 264
002724-00742 | Mercomist Aerosol Insect Killer | Pyrethrins Piperonyl Butoxide MGK 264
002724-00744 | Heartland FH-7 Farm & Dairy Insect Killer | Pyrethrins Piperonyl Butoxide
002724-00745 | SPI Horse Spray | Pyrethrins Piperonyl Butoxide
002724-00748 | Holiday Ointment | Pyrethrins Piperonyl Butoxide
002724-00749 | Holiday Flea Shampoo for Dogs & Cats | Pyrethrins Piperonyl Butoxide
002724-00752 | Holiday Puppy-Kitten Spray | Pyrethrins Piperonyl Butoxide MGK 264
002724-00753 | Pyrethrin Flushing Insecticide | Pyrethrins Piperonyl Butoxide MGK 264
002724-00754 | Pest Control Products Roach Flushing Insecticide | Pyrethrins Piperonyl Butoxide MGK 264
002724-00755 | Pest Control Products One-Two-Three Economy Insecticide | Pyrethrins Piperonyl Butoxide MGK 264
002724-00756 | Holiday Concentrated Shampoo for Dogs & Cats | Pyrethrins Piperonyl Butoxide
002724-00758 | Pest Control Products Indoor Fogger | Pyrethrins Piperonyl Butoxide MGK 264
002724-00763 | Hill's Holiday Flea Stop Pump Spray for Dogs & Cats | Piperonyl Butoxide
002724-00764 | Holiday Non-Aerosol Flea Spray | Piperonyl Butoxide
002724-00768 | Hill's Holiday Flea Stop Pyrethrin Pump | Pyrethrins Piperonyl Butoxide MGK 264
002724-00772 | Permalool Plus Fogger | Piperonyl Butoxide Permethrin
002724-00775 | Holiday Pet Spray II | Pyrethrins Piperonyl Butoxide MGK 264
002724-00778 | Permethrin Plus Fogger | Piperonyl Butoxide Permethrin
002724-00781 | Carpet Powder Plus | Pyrethrins Piperonyl Butoxide
002724-00784 | Carpet Powder Plus II | Pyrethrins Piperonyl Butoxide
002724-00785 | Carpet Powder Plus III | Pyrethrins Piperonyl Butoxide
002935-00549 | Potato Seed Treater | Mancozeb
004713-00006 | Superfine Pyrethrum Powder | Pyrethrins
004713-00007 | Kenya Refined Pyrethrum Extract 20% | Pyrethrins
004822-00071 | Raid Power Guard 2-Way Bug Killer | Piperonyl Butoxide Pyrethrins
004822-00072 | New Formula Raid House & Garden Bug Killer | Pyrethrins Piperonyl Butoxide
004822-00085 | Bolt Super Knock-Out Flying Insect Killer | Piperonyl Butoxide
004822-00113 | Johnson Raid Household Flying Insect Killer | Piperonyl Butoxide MGK 264
004822-00133 | Improved Formula Raid House & Garden Bug Killer | Pyrethrins Piperonyl Butoxide
004822-00135 | Raid Automatic Indoor Fogger | Pyrethrins Piperonyl Butoxide MGK 264
004822-00140 | Raid Formula IV Flying Insect Killer | Piperonyl Butoxide Pyrethrins Resmethrin
004822-00141 | Raid Flying Insect Killer Formula III | Piperonyl Butoxide Resmethrin
004822-00180 | Raid Indoor Fogger II | Pyrethrins Piperonyl Butoxide MGK 264
004822-00279 | Raid House & Garden Bug Killer Formula 11 | Pyrethrins Piperonyl Butoxide
004822-00280 | Raid Flying Insect Killer Formula V | Pyrethrins Piperonyl Butoxide MGK 264
004822-00280 | Raid Flying Insect Killer Formula V | MGK 264 Pyrethrins Piperonyl Butoxide Tetramethrin
004822-00281 | Raid House & Garden | Pyrethrins Piperonyl Butoxide
004822-00286 | Raid Formula 6 Flying Insect Killer | Piperonyl Butoxide Resmethrin
004822-00289 | Raid Flying Insect Killer Formula 4 | Piperonyl Butoxide
004822-00303 | Raid Flying Insect Killer Formula 9 | Piperonyl Butoxide
004822-00304 | Raid Flying Insect Killer Formula 10 | Piperonyl Butoxide Resmethrin
004822-00319 | Raid Flying Insect Killer Formula 12. | Piperonyl Butoxide
004822-00321 | Raid Fogger 15 | Pyrethrins
004822-00323 | Raid Ant & Roach Formula 6 | Piperonyl Butoxide Pyrethrins Permethrin
004822-00327 | Raid Flying Insect Killer | Piperonyl Butoxide
004822-00353 | Raid Ant and Roach Killer Formula D16 | Piperonyl Butoxide Permethrin
004822-00354 | Raid Max Roach and Ant Killer 3 | Piperonyl Butoxide
004822-00361 | Enforcer Flea Killer For Carpets | MGK 264 Pyrethrins Piperonyl Butoxide
004822-00363 | Piperonyl Butoxide Technical for Manufacturing Purposes Only | Piperonyl Butoxide
004822-00378 | Raid Max Fogger 2 | Pyrethrins Piperonyl Butoxide
004822-00386 | Raid Indoor Fogger XXIII | Pyrethrins Piperonyl Butoxide
004822-00387 | Raid Fogger Formula XXIV | Pyrethrins Piperonyl Butoxide
004822-00391 | Raid Ant 7 Roach Killer 12 | Pyrethrins Piperonyl Butoxide Permethrin
004822-00403 | Raid & Roach Killer 14 | Pyrethrins Piperonyl Butoxide Permethrin
004822-00466 | P/P Pet Spray | Pyrethrins Piperonyl Butoxide
004822-00467 | P/P Flea & Tick Spray No. 3 | Pyrethrins Piperonyl Butoxide
005481-00073 | Alco Fly Fighter Liquid Concentrate | Dichlorvos (DDVP)
005481-00200 | DDVP 90% Fogging Concentrate | Dichlorvos (DDVP)
005481-00206 | DDVP 20% Spray Concentrate | Dichlorvos (DDVP)
005481-00334 | DDVP 2 Spray OB | Dichlorvos (DDVP)
005481-00340 | Alco Bug Spray Pressurized | Dichlorvos (DDVP)
005887-00010 | 50% Malathion Spray | Malathion
005887-00120 | Black Leaf Tomato & Vegetable Spray | Piperonyl Butoxide Pyrethrins
005887-00160 | Black Leaf Roach, Ant & Spider Spray | Permethrin Pyrethrin MGK264
005887-00168 | 50% Malathion Spray | Malathion
007401-00267 | Hi-Yield 5% Malathion Dust | Malathion
007401-00438 | Ferti-Lome Liquid Fruit Tree Spray | Malathion
008329-00045 | Permethrin RTU | Permethrin
008536-00031 | Premium Grade Card-O-Sect #25 | Resmethrin
008536-00032 | NE-1 Insecticide | Resmethrin
008536-00034 | Cardinal 3% ULV Insecticide | Resmethrin
008660-00255 | Permethrin 0.5 Lawn Insect Control | Permethrin
008660-00257 | Permethrin 0.32 Lawn Insect Control with Fertilizer | Permethrin
008660-00258 | Permethrin 0.38 Lawn Insect Control with Fertilizer | Permethrin
009444-00005 | CB Purge Insecticide | Piperonyl Butoxide Pyrethrins
009444-00020 | Purge Instant Fogger | Pyrethrins Piperonyl Butoxide
009444-00021 | CB-38 Insecticide | Pyrethrins Piperonyl Butoxide
009444-00033 | Purge III Industrial Type Insect Killer | Pyrethrins Piperonyl Butoxide MGK 264
009444-00041 | CB-40 Insecticide | Pyrethrins Piperonyl Butoxide MGK 264
009444-00082 | Purge Fly Spray for Horses | Pyrethrins Piperonyl Butoxide
009444-00088 | CB Farm Dairy Insect Fogger | Pyrethrins Piperonyl Butoxide MGK 264
009444-00096 | CB-80 Insecticide | Pyrethrins Piperonyl Butoxide
009444-00102 | CB Flea & Tick Shampoo | Pyrethrins Piperonyl Butoxide
009444-00111 | CB Farm Dairy Insecticide Concentrate | Pyrethrins Piperonyl Butoxide
009444-00124 | Purge CB-100 Insecticide | Pyrethrins Piperonyl Butoxide MGK 264
009444-00126 | CB S-312 Insecticide | Piperonyl Butoxide
009444-00144 | CB-405 Fogger | Pyrethrins Piperonyl Butoxide MGK 264
009444-00147 | Country Vet Flea & Tick Dip Concentrate | Pyrethrins Piperonyl Butoxide
009444-00148 | Country Vet Pet & Spray | Pyrethrins Piperonyl Butoxide
009444-00149 | Country Vet Pet & Kennel Spray | Pyrethrins Piperonyl Butoxide
009444-00162 | Purge 30 DS | Pyrethrins Piperonyl Butoxide MGK 264
009444-00172 | CB 38-4 For Insect Control | Pyrethrins Piperonyl Butoxide
009444-00176 | CB-80-2 WB For Insect Control | Pyrethrins Piperonyl Butoxide
009444-00178 | CB-80-4 WB For Insect Control | Pyrethrins Piperonyl Butoxide
009444-00179 | CB-123-1 For Insect Control | Pyrethrins Piperonyl Butoxide MGK 264
009444-00187 | CB S-312 For Insect Control | Piperonyl Butoxide
009444-00197 | Country Vet Farm Dairy CV-40-ID Insect Spray | Pyrethrins Piperonyl Butoxide
009444-00198 | Country Vet Farm Dairy CV-40-3D Insect Spray | Pyrethrins Piperonyl Butoxide
009444-00199 | Country Vet Farm Dairy CV-40-4D Insect Spray | Pyrethrins Piperonyl Butoxide
009444-00200 | Country Vet Farm Dairy CV-40-2D Insect Spray | Pyrethrins Piperonyl Butoxide
009444-00201 | Intruder II Residual with Cyfluthrin | Pyrethrins Piperonyl Butoxide
009444-00218 | Crawling Insect Killer-MP | Piperonyl Butoxide Permethrin
009444-00222 | Home Insect Fogger | Pyrethrins Piperonyl Butoxide MGK 264
009444-00233 | CB-80-3 Spray for Horses | Pyrethrins Piperonyl Butoxide
009444-00238 | Country Vet Purge 1 | Pyrethrins Piperonyl Butoxide
009688-00036 | Total Release Insect Fogger | Piperonyl Butoxide Pyrethrins
009688-00052 | Flying and Crawling Insects Spray IV | Piperonyl Butoxide Pyrethrins
009688-00055 | Flying and Crawling Insect Killer V | Piperonyl Butoxide Pyrethrins MGK 264
009688-00103 | Chemsico Carpet Powder | Piperonyl Butoxide Pyrethrins
009688-00105 | Chemsico Insect Repellent | Permethrin
009688-00112 | Chemsico Aerosol Spray A | Permethrin
009688-00114 | Chemsico Insecticide K | Piperonyl Butoxide Pyrethrins
009688-00115 | Chemsico Ornamental, Houseplant & Vegetable Spray | Piperonyl Butoxide Pyrethrins Permethrin
009688-00116 | Chemsico Indoor & Outdoor Spray | Piperonyl Butoxide Permethrin
009688-00142 | Chemsico Insecticide Concentrate 10P | Permethrin
009688-00146 | Chemsico Insecticide DM | Permethrin
009688-00159 | Chemsico Insecticide NT | Piperonyl Butoxide Permethrin
009688-00161 | Chemsico Insecticide Concentrate N30-A | Permethrin
009688-00175 | Chemsico Insecticide Concentrate FAP | Permethrin
009688-00196 | Chemsico Garden Dust PP | Piperonyl Butoxide Pyrethrins
009688-00207 | Chemsico Insecticide Concentrate 10PT | Permethrin
009688-00226 | Chemsico Flea & Tick Killer PP | Piperonyl Butoxide Pyrethrins
009688-0083 | Chemsico Lawn Insect Control Granules | Permethrin
009779-00272 | Propanil 4E | Propanil
009779-00306 | Propanil 60 DF | Propanil
009779-00307 | Malathion RTU | Malathion
009779-00338 | Propanil 80 EDF | Propanil
009779-00340 | Londax Pro-Pack BNB | Propanil
009779-00343 | Pro-Pack 80 EDF | Propanil
010163-00044 | ProKill Malathion ULV | Malathion
010163-00142 | Gowan Malathion 5 Dust | Malathion
010163-00152 | Malathion Technical | Malathion
010806-00011 | P-30 Insect Spray | Piperonyl Butoxide Pyrethrins MGK 264
028293-00004 | Unicom Pet Shampoo | MGK-264 Piperonyl Butoxide
028293-00007 | Unicorn Flea & Tick Powder | Piperonyl Butoxide Pyrethrins
028293-00020 | Unicorn Fly Repellent #2 | MGK-264 Piperonyl Butoxide
028293-00021 | Unicorn Blitz RTU Spray | Piperonyl Butoxide Pyrethrins
028293-00025 | Unicorn Ear Mite Remedy | Piperonyl Butoxide Pyrethrins
028293-00029 | Unicorn Pet Dip | Piperonyl Butoxide Pyrethrins
028293-00030 | Unicorn Equine Fly Spray | Piperonyl Butoxide Pyrethrins Butoxypolypropylene Glycol
028293-00085 | Unicorn Bird Spray | MGK-264 Piperonyl Butoxide
028293-00093 | Unicorn Carpet Dust | Piperonyl Butoxide Pyrethrins
028293-00118 | Unicorn Today Flea & Tick Spray | MGK-264 Piperonyl Butoxide
028293-00119 | Unicorn Malathion | Malathion
028293-00137 | Unicorn Pyrethrin Pet Shampoo II | Piperonyl Butoxide Pyrethrins
028293-00138 | Unicorn Carpet Dust II | Piperonyl Butoxide Pyrethrins
028293-00140 | Unicorn Super Pet Shampoo | MGK-264 Piperonyl Butoxide
028293-00145 | Unicorn Flea & Tick Spray | MGK-264 Piperonyl Butoxide
028293-00174 | Unicorn Flea & Tick Spray | Piperonyl Butoxide Pyrethrins
028293-00176 | Unicorn Aqueous Pet Dip | Piperonyl Butoxide Pyrethrins
028293-00178 | Unicorn Animal & Kennel Concentrate | Piperonyl Butoxide Pyrethrins
028293-00180 | Pyrethrins Flea & Tick Carpet Powder | Piperonyl Butoxide Pyrethrins
028293-00197 | Unicorn Ultra Pet Shampoo II | MGK-264
028293-00207 | Unicorn Garden Dust | Piperonyl Butoxide Pyrethrins
028293-00208 | Unicorn Garden Spray Concentrate | Piperonyl Butoxide Pyrethrins
028293-00209 | Unicorn 14 Day Flea & Tick Spray #3 | Piperonyl Butoxide Pyrethrins Permethrin
028293-00219 | Unicorn Concentrate 7243 | Piperonyl Butoxide Pyrethrins
028293-00220 | Unicorn Pressurized Garden Spray | Piperonyl Butoxide Pyrethrins
028293-00224 | House and Carpet Spray #7 | Piperonyl Butoxide Pyrethrins Permethrin
028293-00225 | Unicorn House and Carpet Spray #8 | Piperonyl Butoxide Pyrethrins Permethrin
028293-00226 | Unicorn House and Carpet Spray #9 | Piperonyl Butoxide Pyrethrins Permethrin
028293-00227 | Unicorn Residential, Industrial&Garden Spray #2 | Piperonyl Butoxide Pyrethrins Permethrin
028293-00228 | Unicorn House and Carpet Spray #11 | Piperonyl Butoxide Pyrethrins Permethrin
028293-00232 | Unicorn .15% Transparent Emulsion Spray | Piperonyl Butoxide Pyrethrins
028293-00275 | Unicorn Multi-Purpose House & Garden Insect Killer | MGK-264 Piperonyl Butoxide
028293-00278 | Unicorn 1% Granular Turf Fungicide | Triadimefon
028293-00280 | Unicorn 1% Granular Turf Fungicide | Triadimefon
028293-00284 | Unicorn Cypermethrin Concentrate | CyPermethrin
028293-00288 | Unicorn Synergized Pour-On Insecticide II | Piperonyl Butoxide Permethrin
028293-00291 | Unicorn Malathion 50% EC | Malathion
028293-00292 | Unicorn Synergized Pour-On Insecticide III | Piperonyl Butoxide Permethrin
028293-00367 | Unicorn .30% Cypermethrin Granules | CyPermethrin
034704-00802 | Accost-1G | Triadimefon
040208-00005 | Haymaker II Fogging Insecticide | Piperonyl Butoxide Pyrethrins
042750-00063 | Co-Star | Glyphosate2,4D
046515-00031 | CAI Flea & Tick Spray for Dogs & Cats II | Permethrin Pyrethrins
046515-00054 | Permethrin 0.5% Liquid Ready to Use | Permethrin
046813-00061 | Wasp & Hornet Killer II | Resmethrin
047000-00008 | Chem Tech Metered Refill | Piperonyl Butoxide Pyrethrins
047000-00079 | Flyers Insecticide | Resmethrin
047000-00083 | Freez-Kill | Resmethrin
047000-00099 | Flyer's Insecticide | Resmethrin
047000-00132 | Wasp & Hornet Insect Bomb | Resmethrin
048668-00004 | PPP Flea & Tick Shampoo | Resmethrin
048668-00005 | PPP Flea & Tick Spray | Resmethrin
053883-00040 | Martin's 50% Malathion Concentrate | Malathion
067425-00019 | ECOPCO JET/X | Piperonyl Butoxide
067603-00001 | TSD Multi-Purpose Insect Spray | Permethrin
067760-00026 | Fyfanon 6% Dust | Malathion
073049-00069 | Powdered Pyrethrum | Pyrethrin
073049-00070 | Pyrethrin Extract Crude | Pyrethrins
073049-00073 | Pyrethrum Extract Hr. | Pyrethrins
073049-00074 | Pyrethrum Powdered | Pyrethrins
073049-00075 | Insecticidal Concentrate NO. 1 | Piperonyl Butoxide Pyrethrins MGK 264
073049-00077 | Ultratec Insect with Pyrethrins/Piperonyl Butox. T.E.C. 3.75%-3.75% | Piperonyl Butoxide Pyrethrins
073049-00081 | SBP-1382 Aqueous Pressurized Spray Insecticide 0.50% | Resmethrin
073049-00082 | SBP-1382 Insecticide Aqueous Pressurized Spray 0.25% | Resmethrin
073049-00083 | SBP-1382 Insecticide Aqueous Pressurized Spray 0.35% for House & Garden | Resmethrin
073049-00084 | Your Brand SBP-1382 Insecticide Spray 0.10 | Resmethrin
073049-00085 | SBP-1382/Bioallethrin Aqueous Pressurized Spray | Resmethrin
073049-00087 | SBP-1382 Bioallethrin Insecticide Conc. 10% - 7.5% Formula I | Resmethrin
073049-00088 | SBP-1382 Aqueous Press. Spray Insect 0.25/House & Garden | Resmethrin
073049-00089 | SBP - 1382 Yard and Patio Outdoor Fogger | Resmethrin
073049-00090 | SBP-1382 Oil Base Insecticide 0-20% | Resmethrin
073049-00091 | Bio Resmethrin Liquid Insecticide Spray 0.25% Formula I | Resmethrin
073049-00092 | Your Brand SBP-1382/Bioallethrin(.20%+.125%) Aqueous Press. Spray for H&G | Resmethrin
073049-00095 | SBP-1382/Bioallethrin Insecticide Concentrate 10%-6.25% Formula I | Resmethrin
073049-00097 | SBP-1382 0.35% Space and Residual Aqueous Pressurized Spray | Resmethrin
073049-00098 | SBP-1382 Insecticide Concentrate 12% Formula I with Residual Activity | Resmethrin
073049-00100 | SBP-1382 Insecticide Concentrate 12.5% Formula I | Resmethrin
073049-00101 | SBP-1382 T.E.C. 6% | Resmethrin
073049-00102 | SBP-1382/Bioallethrin Aqueous Pressurized Spray (PD 6.5) | Resmethrin
073049-00103 | SBP-1382/Bioallethrin Insecticide Concentrate 8%-16% Formula I | Resmethrin
073049-00106 | SBP-1382 Insecticide Transparent Emulsion Spray 0.35% | Resmethrin
073049-00107 | Ultratec Insecticide W/SPB-1382 Tran. Emul. Dil. Conc. 2% | Resmethrin
073049-00108 | SBP-1382 Aqueous Pressurized Spray Insecticide 0.25% | Resmethrin
073049-00109 | SBP-1382 Residual Aqueous Pressurized Ant and Roach Spray 0.35% | Resmethrin
073049-00110 | SBP-1382 Insecticide Transparent Emulsion Spray 0.25% | Resmethrin
073049-00111 | SBP-1382 Liquid Spray 0.50% | Resmethrin
073049-00112 | SBP-1382 Liquid Insecticide Spray 0.5% Formula I | Resmethrin
073049-00113 | Vectrin Four-Plus-One | Piperonyl Butoxide Pyrethrins Resmethrin
073049-00124 | Pramex Insecticide Concentration 12.5% | Permenthrin
073049-00126 | Pramex Insecticide Aqueous Pressurized Spray 0.25% For House and Garden | Permenthrin
073049-00131 | SBP-1382 Insecticide Emulsifiable Concentrate 26% | Resmethrin
073049-00132 | SBP-1382 Insecticide Emulsifiable 26% Formula I for Repackaging Use | Resmethrin
073049-00133 | SBP-1382 Concentrate 16% Formula III | Resmethrin
073049-00134 | SBP 1382 Insecticide Concentrate 40% Formula II | Resmethrin
073049-00135 | SBP-1382/Esbiothrin/P.B.O Insecticide AQ. Press. Spray 0.20% + 0.10% + | Piperonyl Butoxide Resmethrin
073049-00140 | Crossfire Concentrate 1 W/SBP-1382/Esbioth./PIP.BUT. 8.34%-4.17%-16.67% FOR.I | Piperonyl Butoxide Resmethrin
073049-00142 | SBP-1382 Oil Base Insecticide 0.20% Formula III | Resmethrin
073049-00143 | SBP-1382 Liquid Insecticide Spray 0.25% Formula III | Resmethrin
073049-00144 | SBP-1382 Insecticide Press. Spray 0.25% Formula III For Wasps & Hornet | Resmethrin
073049-00146 | Ultratec Insecticide W/PYR./ Piperonyl Butoxide Transparent E.C. 2.25-22.5% | Piperonyl Butoxide Pyrethrins
073049-00147 | Ultratec Insecticide W/PYR./ Piperonyl Butoxide Transparent Emulsion 2.25%-22.5% | Piperonyl Butoxide Pyrethrins
073049-00148 | SBP-1382/Esbiothrin/P.B. Insecticide Conc. 3%-4.5%-18% Formula II | Piperonyl Butoxide Resmethrin
073049-00149 | PYR./P.B.O. Trans. Emulsion Spray 0.15 + 1.5% | Piperonyl Butoxide Pyrethrins
073049-00164 | Tetralate Butacide (15-7.5-15) W-B Concentrate | Piperonyl Butoxide Resmethrin
073049-00165 | Tetralate-Butacide Insect Killer WBA N109 | Piperonyl Butoxide Resmethrin
073049-00173 | Pyraperm 709 Fogger | Piperonyl Butoxide Pyrethrins Permethrin
073049-00188 | Permanone Insect Killer R400 | Permethrin
073049-00189 | Pramex Insecticide E. C. 13.3% For Use on Plants Formula I | Permethrin
073049-00190 | SBP-1382/PYR./P.B.O. Transparent Emuls. Spray 0.08 + 0.02+0.02% | Piperonyl Butoxide Pyrethrins Resmethrin
073049-00191 | Ford's Permicide Crack & Crevice Spray | Permethrin
073049-00192 | Thirty-Five Plus Multi-Purpose Insect Spray | Permethrin
073049-00194 | Tomato and Vegetable Insect Spray | Piperonyl Butoxide Pyrethrins
073049-00195 | Ford's Garden Spray | Piperonyl Butoxide Pyrethrins
073049-00196 | Pet Shampoo | Piperonyl Butoxide Pyrethrins
073049-00198 | Ford's Aqua Py Dog & Cat Spray | Piperonyl Butoxide Pyrethrins
073049-00199 | Flea & Tick Spray | Piperonyl Butoxide Pyrethrins
073049-00200 | Ford's Pyre-Dust Roach Powder | Piperonyl Butoxide Pyrethrins
073049-00201 | Ford's Aqua Fog | Piperonyl Butoxide Pyrethrins
073049-00202 | Flea & Tick Duster for Carpets and Upholstered Furniture | Piperonyl Butoxide Pyrethrins
073049-00203 | Ford's Multipurpose Aerosol | Piperonyl Butoxide Pyrethrins
073049-00204 | Ultimate Spray | Piperonyl Butoxide Pyrethrins
073049-00205 | Pyre-cide 3-6-10 Oil Concentrate | Piperonyl Butoxide Pyrethrins MGK-264
073049-00206 | Blanco 0.2 Liquid Insecticide Spray | Resmethrin
073049-00207 | Ford's SBP-1382 Insecticide Transparent Emulsion Spray 0.25% | Resmethrin
073049-00208 | CSA House and Garden Spray | Resmethrin
073049-00209 | Ford's Commercial Spray | Resmethrin
073049-00211 | Pyrenone Aerosol Concentrate 20-5 | Piperonyl Butoxide Pyrethrins
073049-00214 | Pyrenone O.T. 50-5 | Piperonyl Butoxide Pyrethrins
073049-00215 | Pyrenone O.T. 666 Insecticide | Piperonyl Butoxide Pyrethrins
073049-00216 | Emulsifiable Pyrenone 10-1 | Piperonyl Butoxide Pyrethrins
073049-00219 | Pyrenone O.T. Emulsifiable Concentrate 60-6 | Piperonyl Butoxide Pyrethrins
073049-00220 | Niagara Pyrenone Aerosol Concentrate 50-6 Insecticide code 777.00 | Piperonyl Butoxide Pyrethrins
073049-00221 | Special Aerosol Concentrate Insecticide Code | Piperonyl Butoxide Pyrethrins
073049-00224 | Intermediate Concentrate WB Insecticide | Piperonyl Butoxide Pyrethrins
073049-00227 | Pyrenone General Purpose Spray | Piperonyl Butoxide Pyrethrins
073049-00229 | Butamin P&O Concentrate | Piperonyl Butoxide
073049-00230 | NIA 17370 Insecticide Spray 0.05 | Resmethrin
073049-00231 | Synthrin Aqueous Pressurized Spray Insecticide 0.50 | Resmethrin
073049-00232 | Synthrin House and Garden Insecticide Spray 0.25% | Resmethrin
073049-00233 | Tetralate 25-10.6 WB | Resmethrin
073049-00234 | Tetramethrin 2.5 FMC 17370 1.06 DWB Concentrate | Resmethrin
073049-00235 | Automatic Sequential Pressurized Spray | Piperonyl Butoxide Pyrethrins
073049-00237 | Pyrenone Small Animal & Kennel Insecticide Emulsifiable Concentrate | Piperonyl Butoxide Pyrethrins
073049-00239 | Niagara Vaporizer Concentrate 3.0-0.3 | Piperonyl Butoxide Pyrethrins
073049-00240 | Vaporizer Concentrate 0.1%-0.5% | Piperonyl Butoxide Pyrethrins
073049-00241 | Pyrenone Industrial Spray Emulsifiable Concentrate | Piperonyl Butoxide Pyrethrins
073049-00242 | Pyrenone Double-A Spray | Piperonyl Butoxide Pyrethrins
073049-00243 | Pyrenone 60-6 EC Alternate Code 77805 | Piperonyl Butoxide Pyrethrins
073049-00244 | Vaporizor Conc. 2.4-0.3 | Piperonyl Butoxide Pyrethrins
073049-00245 | Niagara Pyrenone W-B 40-5 Code 76703 | Piperonyl Butoxide Pyrethrins
073049-00246 | Multi-Purpose Pyrenone Insecticide Concentrate | Piperonyl Butoxide Pyrethrins
073049-00250 | Pyrenone E.C. 10-1 Insecticide | Piperonyl Butoxide Pyrethrins
073049-00251 | Pyrenone Mill Spray 2-0.2 Oil Type | Piperonyl Butoxide Pyrethrins
073049-00255 | Tetralate Multipurpose Insect Killer | Resmethrin
073049-00256 | Pyrenone 50%-5% Insecticide Concentrate | Piperonyl Butoxide Pyrethrins
073049-00257 | Butamin Indoor/Outdoor Spray | Piperonyl Butoxide
073049-00259 | Tetralate 2.0-0.44 WB | Resmethrin
073049-00260 | Tetramethrin 26.64 NIA 17370 5.85 WB Concentrate | Resmethrin
073049-00262 | Tetralate General Purpose 0.25%-0.25% Insect Killer | Resmethrin
073049-00263 | Tetralate 2.5-2.5 WB | Resmethrin
073049-00264 | Tetralate 16.670-7.0655 | Resmethrin
073049-00265 | Tetralate 20.84-20.84 W.B. | Resmethrin
073049-00276 | Synthrin House and Garden Insecticide 0.25% | Resmethrin
073049-00287 | Drione II Insecticide | Piperonyl Butoxide Pyrethrins
073049-00291 | Pyrenone 12.5-5.0 W.P. Base | Piperonyl Butoxide Pyrethrins
073049-00296 | Pyrenone-Porch, Patio, Garden and Ornamental Spray I | Piperonyl Butoxide Pyrethrins
073049-00302 | Double Action Flea & Tick Powder I | Piperonyl Butoxide Pyrethrins
073049-00304 | Butamin P & O Concentrate V | Piperonyl Butoxide
073049-00308 | Tetraperm Yard & Patio Spray | Piperonyl Butoxide Permethrin
073049-00309 | Permanone Dusting Powder | Piperonyl Butoxide Permethrin
073049-00310 | Permanone (20-5) Dust Concentrate | Piperonyl Butoxide Permethrin
073049-00311 | Pyraperm Dusting Powder | Piperonyl Butoxide Pyrethrins Permethrin
073049-00312 | Pyraperm Dust Concentrate | Piperonyl Butoxide Pyrethrins Permethrin
073049-00313 | Tetraperm Crawling Insect Killer | Permethrin
073049-00314 | Tetraperm Dual Action Ant & Roach Killer | Permethrin
073049-00315 | Tetraperm (16-40) O-B Concentrate | Permethrin
073049-00316 | Pyraperm (7.5-15-37.5) O-B Concentrate | Piperonyl Butoxide Pyrethrins Permethrin
073049-00321 | Pyraperm Insect Killer WBA N65 | Piperonyl Butoxide Pyrethrins Permethrin
073049-00322 | Pyraperm Insect Killer WBA N66 | Piperonyl Butoxide Pyrethrins Permethrin
073049-00323 | Pyraperm Insect Killer WBA N67 | Piperonyl Butoxide Pyrethrins Permethrin
073049-00324 | Pyraperm Insect Killer WBA N67A | Piperonyl Butoxide Pyrethrins Permethrin
073049-00325 | Pyraperm (6-3-30) W-B Concentrate | Piperonyl Butoxide Pyrethrins Permethrin
073049-00327 | Pyraperm Aqueous Crawling Insect Killer | Piperonyl Butoxide Pyrethrins Permethrin
073049-00328 | Tetraperm Crawling Insect Killer II | Permethrin
073049-00335 | Pyraperm Household Dusting Powder | Piperonyl Butoxide Pyrethrins Permethrin
073049-00336 | Permanone Household Dusting Powder | Piperonyl Butoxide Permethrin
073049-00340 | Permanone WSB | Permethrin
073049-00341 | Permanone 25 WP | Permethrin
073049-00353 | Permanone 25 WP | Permethrin
073049-00357 | SBP-1382 Micro-Min Insecticide Spray 0.5% with Mineral Oil | Resmethrin
073049-00358 | SBP-1382 Insecticide Concentrate 3% | Resmethrin
073049-00364 | Intercept H & G Insect Control | Permethrin
073049-00369 | Permanone 0.2% RTU H&G Insect Control | Permethrin
073049-00370 | Pyrenone Aerosol Concentrate 40-5 | Piperonyl Butoxide Pyrethrins
073049-00373 | Dairy & Livestock Spray | Piperonyl Butoxide Pyrethrins
073049-00375 | Industrial Aqueous Pressurized 4.0-0.5 | Piperonyl Butoxide Pyrethrins
073049-00376 | Pyrenone Garden Dust | Piperonyl Butoxide Pyrethrins
073049-00377 | Pyrenone Garden Spray Concentrate | Piperonyl Butoxide Pyrethrins
073049-00381 | Exterm-A-Vape | Resmethrin
073049-0248 | Compactor and Kitchen Insecticide | Piperonyl Butoxide Pyrethrins
073049-326 | Permanone Aqueous Indoor Fogger | Permethrin
073825-00006 | Ecosmart Household Insect Killer | Piperonyl Butoxide

Unless a request is withdrawn by the registrant within 30 days of publication of this notice, orders will be issued canceling all of these registrations. Users of these pesticides or anyone else desiring the retention of a registration should contact the applicable registrant directly during this 30-day period.

Table 2 of this unit includes the names and addresses of record for all registrants of the products in Table 1 of this unit, in sequence by EPA company number:

Table 2.—Registrants Requesting Voluntary Cancellation
EPA Co. Number | Company Name and Address
4 | Bonide Products, Inc. Agent Registrations By Design, Inc. P.O. Box 1019 Salem, VA 24153-3805
70 | Value Gardens Supply, LLC D/B/A Garden Value Supply P.O. Box 585 Saint Joseph, MO 64502
88 | Hyponex Corporation (and Subsidiaries) 14111 Scottslawn Road Marysville, OH 43041
192 | Value Gardens Supply, LLC D/B/A Garden Value Supply P.O. Box 585 Saint Joseph, MO 64502
239 | The Scotts Company 14111 Scottslawn Road Marysville, OH 43041
270 | Farnam Companies, Inc. D/B/A Central Life Sciences 301 West Osborn Road Phoenix, AZ 85013
305 | United Industries Corp. d/b/a WPC Brands Inc. P.O. Box 4406 Bridgeton, MO 63044
432 | Bayer Environmental Science 2 T. W. Alexander Drive P.O. Box 12014 Research Triangle Park, NC 27709
478 | Realex P.O. Box 142642 St. Louis, MO 63114-0642
498 | Chase Products Co. P.O. Box 70 Maywood, IL 60153
499 | Whitmire Micro-Gen Research Laboratories, Inc. Agent Name: BASF CORP. 3568 Tree Court Industrial Blvd. St. Louis, MO 63122-6682
506 | Walco Linck Company 30856 Rocky Rd Greeley, CO 80631-9375
572 | Value Gardens Supply, LLC D/B/A Garden Value Supply P.O. Box 585 Saint Joseph, MO 64502
655 | Prentiss, INC. 3600 Mansell Rd, Suite 350 Alpharetta, GA 30022
769 | Value Gardens Supply, LLCP.O. Box 585 Saint Joseph, MO 64502
829 | Southern Ag Insecticides Ag-Chem Consulting 12208 Quinque Lane Clifton, VA 20124
1015 | Douglas Products and Packaging Co. D/B/A Douglas Products and Packaging 4110 136th Street, Northwest Gig Harbor, WA 98332
1021 | Douglas Products and Packaging Co. D/B/A Douglas Products and Packaging 4110 136th Street, Northwest Gig Harbor, WA 98332
1203 | Delta Foremost Chemical Corp 3915 Air Park St. Memphis, TN 38118
1270 | ZEP Inc. 1310 Seaboard Industrial Blvd. NW Atlanta, GA 30318
1381 | Winfield Solutions, LLC P.O. Box 64589 St. Paul, MN 55164-0589
1903 | Eight in One Pet Products, Inc. 1377 Motor Parkway, Suite 100 Islandia, NY 11749
2596 | The Hartz Mountain Corp. 400 Plaza Drive Secaucus, NJ 07094
2724 | Wellmark International 1501 E. Woodfield Rd, Suite 200 West Schaumburg, IL 60173
2935 | Wilbur-Ellis Company P.O. Box 1286 Fresno, CA 93715
4713 | Paul A. Keane & Associates P.O. Box 65436 Tucson, AZ 85728
4822 | S.C. Johnson & Son, Inc. 1525 Howe St. Racine, WI 53403
5481 | Amvac Chemical Corporation 4695 MacArthur Court, Suite 1250 Newport Beach, CA 92660
5887 | Value Gardens Supply, LLCD/B/A Garden Value Supply P.O. Box 585 Saint Joseph, MO 64502
7401 | Voluntary Purchasing Group, Inc. 230 FM 87 Bonham, TX 75418-8629
8329 | Clarke Mosquito Control Products, Inc. P.O. Box 72197 Roselle, IL 60172
8536 | Soil Chemicals Corporation P.O. Box 782 Hollister, CA 95024
8660 | United Industries Corp. d/b/a Sylorr Plant Corp P.O. Box 14642 St. Louis, MO 63114-0642
9444 | Waterbury Companies, Inc. 129 Calhoun St. P.O. Box 640 Independence, LA 70443
9688 | Chemsico Div of United Industries Corp P.O. Box 142642 St Louis, MO 63114-0642
9779 | Agriliance, LLC P.O. Box 64089 St. Paul, MN 55164-0089
10163 | Gowan Company P.O. Box 5569 Yuma, AZ 85366-5569
10806 | Contact Industries Div. of Safeguard Chemical Corp 411 Wales Ave Bronx, NY 10454
28293 | Phaeton Corporation Agent Registrations By Design, Inc P.O. Box 1019 Salem, VA 24153
34704 | Loveland Products, Inc. P.O. Box 1286 Greeley, CO 80632-1286
40208 | Lawson Products, Inc. D/B/A Drummond, A Lawson Brand 600 Corporate Woods Parkway Vernon Hills, IL 60061-3165
42750 | Albaugh, Inc. 1525 NE 36th Street Ankeny, IA 50021
46515 | Celex Div. of United Industries Corp. P.O. Box 142642 St Louis, MO 63114-0642
46813 | K-G Packaging, INC. 316 Highland Avenue Hartford, WI 53027
47000 | Chem-Tech, LTD. 4515 Fleur Dr. #303 Des Moines, IA 50321
48668 | Professional Pet Products 1873 N.W. 97TH Ave. Miami, FL 33172
67425 | Ecosmart Technologies, Inc. Technology Sciences Group, Inc. 1150 18TH Street, N.W., Suite 1000 Washington, District of Columbia 20036
67603 | Sherwin Williams Diversified Brands 101 Prospect Ave. Cleveland, OH 44115
67760 | Cheminova, Inc. Washington Office 1600 Wilson Boulevard Suite 700 Arlington, VA 22209
73049 | Valent BioSciences Corporation 870 Technology Way, Suite 100 Libertyville, IL 60048-6316
73825 | Bioganic Safety Brands, Inc. 509 Tower Valley Drive Hillsboro, MO 63050

III. What is the Agency's Authority for Taking this Action?

Section 6(f)(1) of FIFRA provides that a registrant of a pesticide product may at any time request that any of its pesticide registrations be canceled. FIFRA further provides that, before acting on the request, EPA must publish a notice of receipt of any such request in the Federal Register. Thereafter, the Administrator may approve such a request.

IV. Procedures for Withdrawal of Request

Registrants who choose to withdraw a request for cancellation must submit such withdrawal in writing to the person listed under FOR FURTHER INFORMATION CONTACT, postmarked before March 5, 2010. This written withdrawal of the request for cancellation will apply only to the applicable FIFRA section 6(f)(1) request listed in this notice. If the products have been subject to a previous cancellation action, the effective date of cancellation and all other provisions of any earlier cancellation action are controlling. The withdrawal request must also include a commitment to pay any reregistration fees due, and to fulfill any applicable unsatisfied data requirements.

V. Provisions for Disposition of Existing Stocks

Existing stocks are those stocks of registered pesticide products which are currently in the United States and which were packaged, labeled, and released for shipment prior to the effective date of the cancellation action. EPA's existing stocks policy (56 FR 29362) provides that: “If a registrant requests to voluntarily cancel a registration where the Agency has identified no particular risk concerns, the registrant has complied with all applicable conditions of reregistration, conditional registration, and data call ins, and the registration is not subject to a Registration Standard, Label Improvement Program, or reregistration decision, the Agency will generally permit a registrant to sell or distribute existing stocks for 1 year after the cancellation request was received. Persons other than registrants will generally be allowed to sell, distribute, or use existing stocks until such stocks are exhausted.”

Upon cancellation of the pesticides identified in Table 1, EPA anticipates allowing sale, distribution and use as described above. Exception to this general policy will be made in specific cases when more stringent restrictions on sale, distribution, or use of the products or their ingredients have already been imposed, as in a special review action, or where the Agency has identified significant potential risk concerns associated with a particular chemical.

List of Subjects

Environmental protection, Pesticides and pests.

Dated: January 14, 2010.
Richard P. Keigwin, Jr.,
Director, Re-evaluation Division, Office of Pesticide Programs.

[FR Doc. 2010-1583 Filed 2-2-10 8:45 am]

BILLING CODE 6560-50-S